DEPARTMENT OF AGRICULTURE

Commodity Credit Corporation

Draft Environmental Assessment; Giant Miscanthus in Arkansas, Missouri, Ohio, and Pennsylvania

AGENCY: Commodity Credit Corporation and Farm Service Agency, USDA.

ACTION: Notice of availability and request for comments.

SUMMARY: This notice announces the availability of a draft environmental assessment (EA) for the proposed establishment and production of giant miscanthus (Miscanthus X giganteus) as a dedicated energy crop to be grown in the Aloterra Energy and MFA Oil Biomass Company (project sponsors) proposed project areas in Arkansas, Missouri, Ohio, and Pennsylvania as part of the Biomass Crop Assistance Program (BCAP). This notice provides a means for the public to submit comments to voice concerns about the proposed BCAP project areas.

DATES: We will consider comments that we receive by May 7, 2011. The Farm Service Agency (FSA) will consider comments received after that date to the extent possible.

ADDRESSES: We invite you to submit comments on the draft EA. In your comment, include the volume, date, and page number of this issue of the Federal Register. You may submit comments by any of the following methods:

• Federal eRulemaking Portal: Go to http://www.regulations.gov. Follow the online instructions for submitting comments.

• E-Mail: GiantMiscanthusEAComments@intenvsol.com.

• Fax: 972-562-7673 ATTN: Giant Miscanthus EA Comments.

• Mail: Giant Miscanthus EA Comments, Integrated Environmental Solutions, LLC, 2150 S Central Expy Ste 110, McKinney, TX 75070.

• Hand Delivery or Courier: Deliver comments to the above address.

Comments may be inspected in the Office of the Director, CEPD, FSA, USDA, Room 4709 South Building, Washington, DC, between 8 a.m. and 4:30 p.m., Monday through Friday, except holidays.

You may request copies of the draft EA for Giant Miscanthus by writing to: Giant Miscanthus EA Copies, Integrated Environmental Solutions, LLC, 2150 S Central Expy, Ste 110, McKinney, TX 75070, or by e-mail to: rschneider@intenvsol.com, with the subject: “Request for copy draft Giant Miscanthus EA.”

FOR FURTHER INFORMATION CONTACT: Matthew Ponish, (202) 720-6853.

Persons with disabilities who require alternative means for communication (braille, large print, audio tape, etc.) should contact the USDA Target Center at (202) 720-2600 (voice and TDD).

SUPPLEMENTARY INFORMATION: The Aloterra Energy and MFA Oil Biomass Company submitted a proposal to FSA to establish BCAP project areas in Arkansas, Missouri, Ohio, and Pennsylvania. The proposal is to establish and produce giant miscanthus as a dedicated energy crop. The draft EA analyzes the environmental impacts of growing giant miscanthus in those areas. FSA will review comments submitted on the draft EA in response to this notice and use the additional input in developing the final EA and decision document about whether to approve the project or not. This notice announces the availability of the draft EA and the opening of the comment period; it does not discuss the contents of the draft EA.

The draft EA for the proposed BCAP project areas supporting the establishment and production of Giant Miscanthus (Miscanthus X giganteus) in Arkansas, Missouri, Ohio, and Pennsylvania sponsored by Aloterra Energy LLC and MFA Oil Biomass LLC is now available to review for the environmental impact.

The draft EA was prepared in accordance with the provisions of the National Environmental Policy Act (NEPA, 42 U.S.C. 4321-4347); the regulations of the Council on Environmental Quality (CEQ) (40 CFR parts 1500-1508); and FSA regulations for compliance with NEPA (7 CFR 799). As specified in the CEQ regulation, an EA is “ * * * a concise document for which a Federal agency is responsible that serves to (1) briefly provide sufficient evidence and analysis for determining whether to prepare an environmental impact statement [EIS] or (2) a finding of no significant impact” (40 CFR 1508.9). Additionally, since this document falls under the guidance of the BCAP final programmatic EIS (PEIS), which was a broad national-level program document, CEQ guidance allows for “tiering.” The CEQ regulation states that tiering “refers to the coverage of general matters in broader environmental impact statements with subsequent narrower statements or environmental analyses incorporating by reference the general discussions and concentrating solely on the issues specific to the statement subsequently prepared” (40 CFR 1508.28).

Section 9001 of the Food, Conservation, and Energy Act of 2008 (Pub. L. 110-246, commonly referred to as the 2008 Farm Bill) authorizes BCAP. BCAP is administered by the FSA Deputy Administrator for Farm Programs, on behalf of the Commodity Credit Corporation (CCC), with the support of other Federal and local agencies. BCAP is intended to assist agricultural and forest land owners and operators with the establishment and production of eligible crops in selected project areas for conversion to bioenergy, and the collection, harvest, storage, and transportation of eligible material for use in a biomass conversion facility.

On October 27, 2010, CCC published the Record of Decision (ROD) for the BCAP final PEIS (75 FR 65995-66007) and BCAP final rule (76 FR 66202-66243) in the Federal Register. As part of the mitigation measures detailed in the ROD, each project proposal is subject to a NEPA analysis prior to approval of the project area proposal. The initial environmental evaluation of a project area proposal is based on information contained in specific forms: BCAP-19, BCAP-20, BCAP-21, and BCAP-22, with supporting information. After this initial evaluation FSA can conclude either that:

(1) No additional environmental analyses are applicable due to no potential for the proposed BCAP activity to significantly impact the environment, or

(2) Additional environmental analyses in the form of an EA or EIS are necessary, depending upon the potential level of significance.

Due to inconclusive results in the initial environmental evaluation, FSA is required to do an EA to make a determination whether there could be significant environmental impacts.

The draft EA can be reviewed online at http://www.fsa.usda.gov/FSA/webapp?area=home&subject=ecrc&topic=nep-cd.

Signed in Washington, DC on April 5, 2011.
Carolyn B. Cooksie,
Acting Executive Vice President, Commodity Credit Corporation, and Acting Administrator, Farm Service Agency.

[FR Doc. 2011-8421 Filed 4-7-11; 8:45 am]

BILLING CODE 3410-05-P